DEPARTMENT OF HOMELAND SECURITY

Federal Emergency Management Agency

[Docket ID FEMA-2022-0002; Internal Agency Docket No. FEMA-B-2230]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Surprise (21-09-1333P) | The Honorable Skip Hall, Mayor, City of Surprise, 16000 North Civic Center Plaza, Surprise, AZ 85374 | Public Works Department, Engineering Development Services, 16000 North Civic Center Plaza, Surprise, AZ 85374 | https://msc.fema.gov/portal/advanceSearch | Jul. 8, 2022 | 040053
Maricopa | Unincorporated Areas of Maricopa County (21-09-1333P) | The Honorable Bill Gates, Chairman, Board of Surpervisors, Maricopa County, 301 West Jefferson Street, Phoenix, AZ 85003 | Flood Control District of Maricopa County, 2801 West Durango Street, Phoenix, AZ 85009 | https://msc.fema.gov/portal/advanceSearch | Jul. 8, 2022 | 040037
California:
Placer | City of Lincoln (21-09-1152P) | The Honorable Alyssa Silhi, Mayor, City of Lincoln, 600 6th Street, Lincoln, CA 95648 | Community Development Department, 600 6th Street, Lincoln, CA 95648 | https://msc.fema.gov/portal/advanceSearch | Jun. 24, 2022 | 060241
San Diego | City of San Diego (21-09-1601P) | The Honorable Todd Gloria, Mayor, City of San Diego, 202 C Street, 11th Floor, San Diego, CA 92101 | Development Services Department, 1222 1st Avenue, MS 301, San Diego, CA 92101 | https://msc.fema.gov/portal/advanceSearch | Jul. 1, 2022 | 060295
Florida:
Walton | Unincorporated Areas of Bay County (21-04-1447P) | Mr. Robert Carroll, Chair, Commissioner District 2, Bay County, 840 West 11th Street, Panama City, FL 32401 | Bay County Planning and Zoning, 707 Jenks Avenue, Suite B, Panama City, FL 32401 | https://msc.fema.gov/portal/advanceSearch | Jun. 23, 2022 | 120004
Walton | Unincorporated Areas of Walton County (21-04-1447P) | Mr. Trey Nick, Chair, Commissioner District 4, Walton County, 263 Chaffin Avenue, DeFuniak Springs, FL 32433 | Walton County Planning and Development Services Department, 31 Coastal Centre Boulevard, Santa Rosa Beach, FL 32459 | https://msc.fema.gov/portal/advanceSearch | Jun. 23, 2022 | 120317
Michigan:
Saginaw | City of Frankenmuth (21-05-3420P) | The Honorable Mary Anne Ackerman, Mayor, City of Frankenmuth, City and Township Government Center, 240 West Genesee Street, Frankenmuth, MI 48734 | City and Township Government Center, 240 West Genesee Street, Frankenmuth, MI 48734 | https://msc.fema.gov/portal/advanceSearch | Jul. 7, 2022 | 260188
Saginaw | Township of Frankenmuth (21-05-3420P) | Mr. Tim Hildner, Township Supervisor, Township of Frankenmuth, P.O. Box 245, Frankenmuth, MI 48734 | City and Township Government Center, 240 West Genesee Street, Frankenmuth, MI 48734 | https://msc.fema.gov/portal/advanceSearch | Jul. 7, 2022 | 260895
Missouri: Jackson | City of Kansas City (21-07-1040P) | The Honorable Quinton Lucas, Mayor, City of Kansas City, City Hall, 414 East 12th Street, Kansas City, MO 64106 | Federal Office Building, 911 Walnut Street, Kansas City, MO 64106 | https://msc.fema.gov/portal/advanceSearch | Jul. 6, 2022 | 290173
Ohio:
Lorain | City of Avon (21-05-4651P) | The Honorable Bryan K. Jensen, Mayor, City of Avon, 36080 Chester Road, Avon, OH 44011 | City Hall, Planning Department, 36080 Chester Road, Avon, OH 44011 | https://msc.fema.gov/portal/advanceSearch | Jul. 8, 2022 | 390348
Lorain | City of North Ridgeville (21-05-4651P) | The Honorable Kevin Corcoran, Mayor, City of North Ridgeville, 7307 Avon Belden Road, North Ridgeville, OH 44039 | City Hall, 7307 Avon Belden Road, North Ridgeville, OH 44039 | https://msc.fema.gov/portal/advanceSearch | Jul. 8, 2022 | 390352
Summit | Unincorporated Areas of Summit County (21-05-3486P) | Ms. Ilene Shapiro, County Executive, Summit County, 175 South Main Street, 8th Floor, Akron, OH 44308 | Summit County Building Standards Department, 1030 East Tallmadge Avenue, Akron, OH 44310 | https://msc.fema.gov/portal/advanceSearch | Jun. 9, 2022 | 390781
Summit | Village of Reminderville (21-05-3486P) | The Honorable Sam Alonso, Mayor, Village of Reminderville, 3382 Glenwood Boulevard, Reminderville, OH 44202 | Village Hall, 3382 Glenwood Boulevard, Reminderville, OH 44202 | https://msc.fema.gov/portal/advanceSearch | Jun. 9, 2022 | 390855
Texas: Dallas | City of Grand Prairie (21-06-2282P) | The Honorable Ron Jensen, Mayor, City of Grand Prairie, 300 West Main Street, Grand Prairie, TX 75050 | City Development Center, 205 West Church Street, Grand Prairie, TX 75050 | https://msc.fema.gov/portal/advanceSearch | Jul. 11, 2022 | 485472
Wisconsin: Kenosha | Village of Salem Lakes (21-05-3136P) | Ms. Diann Tesar, Village Board President, Village of Salem Lakes, P.O. Box 443, Salem, WI 53168 | Village Hall, 9814 Antioch Road, Salem, WI 53168 | https://msc.fema.gov/portal/advanceSearch | Jun. 16, 2022 | 550505

[FR Doc. 2022-08143 Filed 4-14-22; 8:45 am]

BILLING CODE 9110-12-P